DEPARTMENT OF ENERGY

Federal Energy Regulatory Commission

Sunshine Act Meeting

October 2, 2002.

The following notice of meeting is published pursuant to section 3(A) of the Government in the Sunshine Act (Pub. L. No. 94-409), 5 U.S.C. 552B:

Agency Holding Meeting: Federal Energy Regulatory Commission.

Date and Time: October 9, 2002, 10 a.m.

Place: Room 2C, 888 First Street, NE., Washington, DC 20426.

Status: Open.

Matters To Be Considered: Agenda.

Note: Items listed on the agenda may be deleted without further notice.

Contact Person for More Information: Magalie R. Salas, Secretary, Telephone, (202) 502-8400. For a recording listing items stricken from or added to the meeting, call (202) 502-8627.

This is a list of matters to be considered by the commission. It does not include a listing of all papers relevant to the items on the agenda; however, all public documents may be examined in the reference and information center.

807th—Meeting October 9, 2002; Regular Meeting, 10 a.m.

Administrative Agenda

A-1.

Docket# AD02-1,000, Agency Administrative Matters

A-2.

Docket# AD02-7,000, Customer Matters, Reliability, Security and Market Operations

A-3.

Docket# AD02-23,000, Demand Response Programs

Markets, Tariffs and Rates—Electric

E-1.

Docket# ER02-2458,000, Midwest Independent Transmission System Operator, Inc.

E-2.

Docket# ER02-2463,000, ISO New England Inc.

E-3.

Docket# ER02-1494,000, Commonwealth Edison Company

E-4.

Omitted

E-5.

Docket# ER02-290,001, Midwest Independent Transmission System Operator, Inc.

E-6.

Docket# ER01-2207,001, Mid-Continent Area Power Pool

Other#s ER01-2207,002, Mid-Continent Area Power Pool

ER01-2207,004, Mid-Continent Area Power Pool

ER01-2207,005, Mid-Continent Area Power Pool

E-7.

Docket# ER01-702,003, American Transmission Company LLC

Other#s OA01-8,002, Wisconsin Electric Power Company

E-8.

Docket# TX96-2,006, City of College Station, Texas

Other#s TX96-2,000, City of College Station, Texas

TX96-2,001, City of College Station, Texas

TX96-2,002, City of College Station, Texas

E-9.

Docket# ER00-1743,004, Entergy Services, Inc.

E-10.

Docket# ER01-3000,006, International Transmission Company and DTE Energy Company

Other#s RT01-101,006, International Transmission Company and DTE Energy Company

EC01-146,006, International Transmission Company and DTE Energy Company

E-11.

Docket# ER02-1326,001, PJM Interconnection, L.L.C.

Other#s ER02-1326,002, PJM Interconnection, L.L.C.

E-12.

Omitted

E-13.

Omitted

E-14.

Docket# EC02-100,000, Mirant Neenah, LLC, Alliant Energy Resources, Inc., and Mirant Wisconsin Investments, Inc.

E-15.

Omitted

E-16.

Docket# ER00-1365,002, California Independent System Operator Corporation

Other#s ER00-1365,001, California Independent System Operator Corporation

E-17.

Docket# ER99-896,002, California Independent System Operator Corporation

Other#s ER99-896,001, California Independent System Operator Corporation

E-18.

Docket# EC00-118,002, Arizona Public Service Company, Pinnacle West Capital Corporation and Pinnacle West Energy Corporation

E-19.

Omitted

E-20.

Docket# ER02-405,002, Entergy Services, Inc.

Other#s EL02-107,000, Duke Energy Hinds, LLC, Duke Energy Hot Spring, LLC, Duke Energy Southaven, LLC, Duke Energy North America, LLC v. Entergy Services, Inc., Entergy Operating Companies

ER02-405,003, Entergy Services, Inc.

E-21.

Docket# ER00-1608,002, Southern Company Services, Inc.

Other#s ER01-2166,002, Southern Company Services, Inc.

E-22.

Omitted

E-23.

Omitted

E-24.

Omitted

E-25.

Omitted

E-26.

Docket# ER02-1663,001, Tampa Electric Company

Other#s ER02-1663,002, Tampa Electric Company

E-27.

Docket# ER97-2353,007, New York State Electric & Gas Corporation

E-28.

Omitted

E-29.

Docket# ER02-1913,001, Nevada Power Company

E-30.

Omitted

E-31.

Docket# ER02-2014,001, Entergy Services, Inc.

E-32.

Docket# EL02-101,000, Cleco Power LLC; Dalton Utilities (acting as agent for the City of Dalton, Georgia); Entergy Services, Inc. (acting as agent for Entergy Arkansas, Inc., Entergy Gulf States Inc., Entergy Louisiana, Inc., Entergy Mississippi Inc., and Entergy New Orleans, Inc.); Georgia Transmission Corporation; JEA (formerly Jacksonville Electric Authority); MEAG Power; Sam Rayburn G & T Electric Cooperative Inc.; South Carolina Public Service Authority; Southern Company Services, Inc. (acting as agent for Alabama Power Company, Georgia Power Company, Gulf Power Company, Mississippi Power Company, and Savannah Electric and Power Company); and the City of Tallahassee, Florida.

E-33.

Docket# EL00-51,000, Northern Maine Independent System Administrator Inc.

E-34.

Omitted

E-35.

Docket# EL02-59,000, KeySpan-Ravenswood, Inc. v. New York Independent System Operator, Inc.

E-36.

Docket# EL01-76,000,001, State of Michigan and the Michigan Public Service Commission v. Wolverine Power Supply Cooperative, Inc.

E-37.

Docket# EL02-91,000, Williams Energy Marketing & Trading Company v. Southern Company Services, Inc.

E-38.

Docket# EL02-118,000, GenPower Anderson, LLC, FPL Energy Anderson, LLC, and Mountain Creek 2001 Trust v. Duke Energy Corporation and Duke Electric Transmission

Other#s ER02-2480,000, Duke Energy Corporation

E-39.

Docket# EL02-97,000, East Kentucky Power Cooperative, Inc. v. Louisville Gas and Electric Company and Kentucky Utilities Company

E-40.

Docket# EL02-121,000, Occidental Chemical Corporation v. PJM Interconnection, L.L.C. and Delmarva Power & Light Company

E-41.

Docket# EL02-112,000, FirstEnergy Solutions Corp. v. PJM Interconnection, L.L.C.

Other#s EL02-120,000, Edison Mission Energy v. PJM Interconnection, L.L.C.

0E-42.

Omitted

E-43.

Docket# EL00-66,000, Louisiana Public Service Commission and the Council of the city of New Orleans v. Entergy Corporation

Other#s ER00-2854,000, Entergy Services, Inc.

EL95-33,002, Louisiana Public Service Commission v. Entergy Services, Inc.

E-44.

Docket# RT02-1,000, Arizona Public Service Company, El Paso Electric Company, Public Service Company of New Mexico and Tucson Electric Power Company

Other#s EL02-9,000, WestConnect RTO, LLC

E-45.

Docket# EL01-122,003, PJM Interconnection L.L.C.

Other#s EL01-122,002, PJM Interconnection L.L.C.

EL01-122,004, PJM Interconnection L.L.C.

E-46.

Docket# EL00-62,010, NSTAR Services Company v. New England Power Pool

Other#s EL00-62,046, NSTAR Services Company v. New England Power Pool

ER00-2052,008, NSTAR Services Company v. New England Power Pool

ER00-2052,011, NSTAR Services Company v. New England Power Pool

EL00-102,000, Northeast Utilities Service Company and Select Energy, Inc., v. ISO New England, Inc.

EL00-102,001, Northeast Utilities Service Company and Select Energy, Inc., v. ISO New England, Inc.

EL00-109,000, Alternate Power Source, Inc., v. ISO New England, Inc.

EL00-109,001, Alternate Power Source, Inc., v. ISO New England, Inc.

EL00-109,002, Alternate Power Source, Inc., v. ISO New England, Inc.

E-47.

Docket# ER99-3301,002, California Independent System Operator Corporation

E-48.

Docket# ER02-1420,001, Midwest Independent Transmission System Operator, Inc.

E-49.

Docket# EL02-103,000, City of Vernon, California

E-50.

Docket# ER02-700,000, Florida Power & Light Company

E-51.

Docket# RM00-7,002, Revision of Annual Charges Assessed to Public Utilities

Other#s RM00-7,003, Revision of Annual Charges Assessed to Public Utilities

RM00-7,004, Revision of Annual Charges Assessed to Public Utilities

RM00-7,005, Revision of Annual Charges Assessed to Public Utilities

RM00-7,006, Revision of Annual Charges Assessed to Public Utilities

E-52.

Docket# ER02-1656,001, California Independent System Operator Corporation

Other#s EL01-68,019, Investigation of Wholesale Rates of Public Utility Sellers of Energy and Ancillary Services in the Western Systems Coordinating Council

ER02-1656,002, California Independent System Operator orporation

ER02-1656,003, California Independent System Operator Corporation

ER02-1656,004, California Independent System Operator Corporation

ER02-1656,005, California Independent System Operator Corporation

ER02-1656,006, California Independent System Operator Corporation

Miscellaneous Agenda

M-1.

Docket# RM02-3,000, Accounting and Reporting of Financial Instruments, Comprehensive Income, Derivatives and Hedging Activities

Markets, Tariffs and Rates—Gas

G-1.

Docket# RP00-490,000, Transwestern Pipeline Company

Other#s RP00-490,001, Transwestern Pipeline Company

RP00-626,000, Transwestern Pipeline Company

RP00-626,001, Transwestern Pipeline Company

RP00-626,002, Transwestern Pipeline Company

RP00-626,003, Transwestern Pipeline Company

G-2.

Docket# RP96-389,067, Columbia Gulf Transmission Company

G-3.

Docket# RP02-216,000, Reliant Energy Gas Transmission Company

Other#s RP02-216,001, Reliant Energy Gas Transmission Company

G-4.

Omitted

G-5.

Omitted

G-6.

Omitted

G-7.

Docket# TM99-6-29,003, Transcontinental Gas Pipe Line Corporation

Other#s TM99-6-29,004, Transcontinental Gas Pipe Line Corporation

RP00-209,000, Transcontinental Gas Pipe Line Corporation

RP01-253,000, Transcontinental Gas Pipe Line Corporation

RP02-171,000, Transcontinental Gas Pipe Line Corporation

G-8.

Omitted

G-9.

Docket# RP02-13,003, Portland Natural Gas Transmission System

G-10.

Docket# RP02-122,001, Kinder Morgan Interstate Gas Transmission, LLC

G-11.

Docket# RP99-274,006, Kern River Gas Transmission Company

Other#s RP99-274,007, Kern River Gas Transmission Company

G-12.

Docket# IS02-10,002 Kinder Morgan Operating L.P. “A”

G-13.

Omitted

G-14.

Docket# RP00-462,001, Equitrans, L.P.

Other#s RP00-462,002, Equitrans, L.P.

RP01-37,003, Equitrans, L.P.

RP01-37,004, Equitrans, L.P.

G-15.

Docket# RP02-151,004, Gulf South Pipeline Company, LP

Other#s RP96-320,057, Gulf South Pipeline Company, LP

RP02-151,005, Gulf South Pipeline Company, LP

G-16.

Docket# RP02-330,001, ANR Pipeline Company

Other#s RP02-330,002, ANR Pipeline Company

G-17.

Omitted

G-18.

Omitted

G-19.

Docket# RP02-129,003, Southern LNG Inc.

Other#s RP02-129,000, Southern LNG Inc.

RP02-129,001, Southern LNG Inc.

RP02-129,002, Southern LNG Inc.

G-20.

Docket# RP00-260,010, Texas Gas Transmission Corporation

Other#s RP00-260,000, Texas Gas Transmission Corporation

G-21.

Docket# OR02-9,000, Chevron Products Company v. Calnev Pipe Line, L.L.C.

G-22.

Omitted

G-23.

Docket# IS01-444,005, Conoco Pipe Line Company

Other#s IS01-445,005, Conoco Pipe Line Company

G-24.

Docket# RP02-34,000, Eastern Shore Natural Gas Company

G-25.

Docket# RP02-334,003, Northern Natural Gas Company

Other#s RP02-334,002, Northern Natural Gas Company

Energy Projects—Hydro

H-1.

Docket# P-11162,004, Wisconsin Power and Light Company

H-2.

Docket# P-10893,008, Hy Power Energy Company

H-3.

Docket# P-2413,052, Georgia Power Company

H-4.

Docket# UL00-3,004, Homestake Mining Company

Other#s UL00-4,004, Homestake Mining Company

H-5.

Omitted

H-6.

Docket# P-10455,021, JDJ Energy Company

H-7.

Omitted

H-8.

Docket# P-2114,106, The Yakama Nation v. Public Utility District No. 2 of Grant County, WA

Energy Projects—Certificates

C-1.

Docket# CP02-229,000, SG Resources Mississippi, L.L.C.

Other#s CP02-230,000, SG Resources Mississippi, L.L.C.

CP02-231,000, SG Resources Mississippi, L.L.C.

C-2.

Omitted

C-3.

Docket# CP02-97,000, West Texas Gas, Inc.

C-4. Docket# CP02-17,001, Texas Eastern Transmission, L.P.

Other#s CP02-45,001, Texas Eastern Transmission, L.P.

C-5.

Docket# CP02-44,001, Dominion Transmission, Inc.

Other#s CP02-46,001, Tennessee Gas Pipeline Company

CP02-47,001, Dominion Transmission, Inc. and Tennessee Gas Pipeline Company

CP02-47,002, Dominion Transmission, Inc. and Tennessee Gas Pipeline Company

CP02-48,001, National Fuel Gas Supply Corporation and Tennessee Gas Pipeline Company

CP02-53,001, National Fuel Gas Supply Corporation and Dominion Transmission, Inc.

C-6.

Docket# CP02-32,001, Texas Eastern Transmission, LP

C-7.

Docket# CP01-422,002, Kern River Gas Transmission Company

Magalie R. Salas,
Secretary.

[FR Doc. 02-25644 Filed 10-4-02; 8:45 am]

BILLING CODE 6717-01-P